DEPARTMENT OF COMMERCE

Bureau of the Census

[Docket Number 181016954-8954-01 ]

Innovations for Public Opinion Research

AGENCY: Bureau of the Census, Department of Commerce.

ACTION: Notice and Request for Information (RFI).

SUMMARY: The Bureau of the Census (Census Bureau) is publishing this notice in the Federal Register to request comments from the public and other government agencies on innovations for measuring and tracking public opinion towards the Census Bureau and the 2020 Census. The Census Bureau is looking to encourage and promote statistical, research, and methodological collaborations that seek to measure perceptions, opinions, beliefs, and attitudes toward the Census Bureau and the 2020 Census. The Census Bureau is interested in ongoing research methodologies that would be able to assess how current events affect public perception toward the Census Bureau as they unfold with the goal of making informed decisions related to the Census Bureau operations before and during the 2020 Census.

DATES: Written comments on this notice must be submitted on or before February 8, 2019.

ADDRESSES: Please direct all comments electronically to the following email address: ADRM.PCO.PM@census.gov.

Response to this Request for Information (RFI) is voluntary. Any personal identifiers (e.g., names, addresses, email addresses, etc.) will be available to the public when responses are compiled. Proprietary, classified, confidential, or sensitive information should not be included in your response.

This RFI is for information and planning purposes only. It should not be construed as a solicitation or as an obligation on the part of the Federal Government, the U.S. Department of Commerce (DOC), or the Census Bureau. Neither the DOC, nor the Census Bureau, intend to make any awards based on responses to this RFI or to otherwise pay for the preparation of any information submitted or for the government's use of such information.

FOR FURTHER INFORMATION CONTACT: Requests for additional information should be directed to Jennifer Hunter Childs, Research Psychologist, Center for Survey Measurement, Research and Methodology Directorate, U.S. Census Bureau, 4600 Silver Hill Road, Washington, DC 20233; telephone: (202) 603-4827, Jennifer.Hunter.Childs@census.gov.

SUPPLEMENTARY INFORMATION: The data collected by the decennial census determine the number of seats each state has in the U.S. House of Representatives—a process called apportionment—and the distribution of $675 billion in federal funds to local communities (Hotchkiss & Phelan, 2017). Even though responding to the census is required by law, the public's willingness to participate by completing the census questionnaire by self-response directly impacts the cost of the operation. If a household does not self-respond, a great deal of time and resources must be expended going door-to-door to personally enumerate non-responding units. Public opinions, behaviors, and attitudes toward the census can make a dramatic difference in both the public's willingness to self-respond and the quality of information collected. The Census Bureau needs to stay aware of public opinion as the 2020 Census approaches. The Census Bureau plans to use traditional methods to observe public opinion (via survey research and standard social media methods). This RFI is seeking information about certain information that may add value to those methods or identify innovative methods for further public opinion research.

This RFI seeks to identify published works and descriptions of best practices using innovative methods to make use of already available public opinion data or big data at the national, regional, and state levels as well as by demographic group. In particular, the Census Bureau is interested in the use of “real-time” data that might relate to decennial census participation, and the ability to research issues that may quickly arise and have potential to impact attitudes towards and knowledge of the Census Bureau. To support this effort, information is requested on:

(1) Innovations for measuring and tracking public opinion towards the Census Bureau and the 2020 Census across time at the national level, at regional or state levels, and by demographic groups using methods other than active data collection by survey research methods.

(2) Innovations to capture online information-sharing and information-seeking behaviors that have the potential for affecting:

a. decennial census participation, and/or

b. public attitudes towards and knowledge of the decennial census or the Census Bureau generally.

The Census Bureau needs to make informed decisions related to operations before and during the 2020 Census. We are interested in whether innovations in this area could yield novel information for the Census Bureau. For example, useful information may lead to a change in decennial census messaging or a series of advertising purchases targeted towards certain demographics or geographies. Useful information may also alert Census Bureau staff to potential issues related to the data collection process or the quality of census returns.

To support this effort, the Census Bureau is requesting information on published works involving innovative public opinion research into areas in which the Census Bureau does not already have expertise (such as innovative methods for measuring public opinion via online information-seeking and -sharing behaviors), but might be useful for consideration in the 2020 Census planning and management.

In particular, the Census Bureau seeks to know:

(1) Do you seek to measure public opinion or perception in a way other than surveys? If so, in what ways and with what level of accuracy?

(2) Do you have access to online information-seeking or -sharing behaviors, like social media, web scraping, google search data or other “big data” for research purposes? If so, provide some example of research you conduct using these data.

(3) The Census Bureau also is considering the possibility of entering into equitably apportioned joint projects of mutual interest with nonprofit organization and local, state, or federal government agencies to pursue collaboration or research into these areas. Would your organization be interested in this kind of agreement?

Submissions could identify or inform joint projects to assess how recent events and the information media environment affect attitudes toward, knowledge of, and participation in Census Bureau data collections as they unfold. A secondary desirable end-result would be to gather information that would enable the Census Bureau to make informed decisions related to Census Bureau planning for the 2030 Census. Finally, these potential projects must provide a mutual benefit to the Census Bureau and the partnering nonprofit organization or local, state, or federal government agency, such as forwarding the field of public opinion research.

Projects of interest might make use of dependent variables including actual census response, census data quality or proxies thereof. Projects might be interested in independent variables such as sociodemographic characteristics (e.g., neighborhood, housing, and family characteristics), behaviors gathered using passive data collection tools, and self-reported attitudes or knowledge about the census. Data already available to the Census Bureau via public datasets or datasets available for purchase is of less interest than information that is not necessarily public, like behaviors on internet search or social media networking sites.

Dated: December 3, 2018.
Ron S. Jarmin,
Deputy Director, Performing the Non-Exclusive Functions and Duties of the Director, Bureau of the Census.

[FR Doc. 2018-26631 Filed 12-7-18; 8:45 am]

BILLING CODE 3510-07-P